DEPARTMENT OF ENERGY

Federal Energy Regulatory Commission

Combined Notice of Filings #1

Take notice that the Commission received the following exempt wholesale generator filings:

Docket Numbers: EG23-223-000.

Applicants: Vineyard Wind 1 LLC.

Description: Vineyard Wind 1 LLC submits Notice of Self-Certification of Exempt Wholesale Generator Status.

Filed Date: 7/11/23.

Accession Number: 20230711-5001.

Comment Date: 5 p.m. ET 8/1/23.

Docket Numbers: EG23-224-000.

Applicants: Derby Fuel Cell, LLC.

Description: Derby Fuel Cell, LLC submits Notice of Self-Certification of Exempt Wholesale Generator Status.

Filed Date: 7/11/23.

Accession Number: 20230711-5060.

Comment Date: 5 p.m. ET 8/1/23.

Take notice that the Commission received the following electric rate filings:

Docket Numbers: ER18-1182-006.

Applicants: System Energy Resources, Inc.

Description: Compliance filing: SERI Deficiency Response (ER18-1182 and EL23-11) to be effective 12/31/9998.

Filed Date: 7/11/23.

Accession Number: 20230711-5014.

Comment Date: 5 p.m. ET 8/1/23.

Docket Numbers: ER21-2892-003.

Applicants: Prairie Wolf Solar, LLC.

Description: Compliance filing: Revised Tariff Records in Docket ER21-2892 to be effective 12/1/2021.

Filed Date: 7/11/23.

Accession Number: 20230711-5046.

Comment Date: 5 p.m. ET 8/1/23.

Docket Numbers: ER23-1851-001.

Applicants: PJM Interconnection, L.L.C.

Description: Tariff Amendment: Response to Deficiency Letter in ER23-1851-000 to be effective 7/8/2023.

Filed Date: 7/10/23.

Accession Number: 20230710-5156.

Comment Date: 5 p.m. ET 7/31/23.

Docket Numbers: ER23-1905-001.

Applicants: PJM Interconnection, L.L.C.

Description: Tariff Amendment: Request to Defer Action: ISA No. 6914; Queue NQ178; Docket ER23-1905 to be effective 12/31/9998.

Filed Date: 7/10/23.

Accession Number: 20230710-5157.

Comment Date: 5 p.m. ET 7/31/23.

Docket Numbers: ER23-2365-000.

Applicants: PJM Interconnection, L.L.C.

Description: Tariff Amendment: Notice of Cancellation of WMPA, Service Agreement No. 6230; Queue No. AG1-315 to be effective 9/11/2023.

Filed Date: 7/11/23.

Accession Number: 20230711-5004.

Comment Date: 5 p.m. ET 8/1/23.

Docket Numbers: ER23-2366-000.

Applicants: Virginia Electric and Power Company, PJM Interconnection, L.L.C.

Description: § 205(d) Rate Filing: Virginia Electric and Power Company submits tariff filing per 35.13(a)(2)(iii: VEPCO submits one WDSA, SA No. 6996 to be effective 6/15/2023.

Filed Date: 7/11/23.

Accession Number: 20230711-5026.

Comment Date: 5 p.m. ET 8/1/23.

Docket Numbers: ER23-2367-000.

Applicants: Wildflower Solar 2 LLC.

Description: Baseline eTariff Filing: Certificate of Concurrence to be effective 9/6/2023.

Filed Date: 7/11/23.

Accession Number: 20230711-5106.

Comment Date: 5 p.m. ET 8/1/23.

Docket Numbers: ER23-2368-000.

Applicants: Derby Fuel Cell, LLC.

Description: Baseline eTariff Filing: Baseline new to be effective 7/12/2023.

Filed Date: 7/11/23.

Accession Number: 20230711-5113.

Comment Date: 5 p.m. ET 8/1/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: July 11, 2023.
Debbie-Anne A. Reese,
Deputy Secretary.

[FR Doc. 2023-15051 Filed 7-14-23; 8:45 am]

BILLING CODE 6717-01-P